FEDERAL ELECTION COMMISSION

Sunshine Act Meeting

FEDERAL REGISTER CITATION NOTICE OF PREVIOUS ANNOUNCEMENT: 84 FR 5083.

PREVIOUSLY ANNOUNCED TIME, DATE, AND PLACE OF THE MEETING: Thursday, February 21, 2019 at 10:00 a.m., 1050 First Street NE, Washington, DC (12th Floor).

CHANGES IN THE MEETING: The February 21, 2019 Open Meeting was canceled.

CONTACT PERSON FOR MORE INFORMATION: Judith Ingram, Press Officer, Telephone: (202) 694-1220.

Dayna C. Brown,
Secretary and Clerk of the Commission.

[FR Doc. 2019-03242 Filed 2-21-19; 11:15 am]

BILLING CODE 6715-01-P